DEPARTMENT OF TRANSPORTATION

Federal Aviation Administration

14 CFR Part 39

[Docket No. FAA-2010-1308; Directorate Identifier 2009-NM-069-AD]

RIN 2120-AA64

Airworthiness Directives; BAE SYSTEMS (OPERATIONS) LIMITED Model BAe 146 Airplanes, and Model Avro 146-RJ Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

During the period 2001/2002, skin cracking was found adjacent to the butt joint forward of frame 19 * * *. The cracks emanated from chemically-etched pockets on the internal surface of the skin. * * * [C]racking in multiple adjacent bays * * * could compromise the structural integrity of the fuselage in the event that the multiple cracks joined into a single crack. * * *

During 2008, a further report was received at BAE Systems of a 13.78 inch crack in an AVRO 146-RJ that occurred 514 flight cycles (FC) short of the next 4 000-FC repetitive inspection interval. * * *

* * * * *

* *

The proposed AD would require actions that are intended to address the unsafe condition described in the MCAI.

DATES: We must receive comments on this proposed AD by February 28, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE SYSTEMS (OPERATIONS) LIMITED, Customer Information Department, Prestwick International Airport, Ayrshire, KA9 2RW, Scotland, United Kingdom; telephone +44 1292 675207; fax +44 1292 675704; e-mail RApublications@baesystems.com; Internet http://www.baesystems.com/Businesses/RegionalAircraft/index.htm. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-1308; Directorate Identifier 2009-NM-069-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 14, 2005, we issued AD 2005-13-19, Amendment 39-14156 (70 FR 37022, June 28, 2005). That AD required actions intended to address an unsafe condition on the products listed above.

Since we issued AD 2005-13-19, a further report of cracking has been received at an interval shorter than the repetitive inspection interval required by AD 2005-13-19. The European Aviation Safety Agency (EASA), which is the Technical Agent for the Member States of the European Community, has issued EASA Airworthiness Directive 2009-0070R1, dated July 2, 2010 (referred to after this as “the MCAI”), to correct an unsafe condition for the specified products. The MCAI states:

During the period 2001/2002, skin cracking was found adjacent to the butt joint forward of frame 19 when unrelated in-service maintenance inspections of the forward fuselage structure were being completed. The cracks emanated from chemically-etched pockets on the internal surface of the skin. The then current MRB [maintenance review board] inspection requirements were not adequate to address cracking in multiple adjacent bays, which could compromise the structural integrity of the fuselage in the event that the multiple cracks joined into a single crack. Investigations resulted in the publication of BAE Systems (Operations) Limited Inspection Service Bulletin (ISB).53-167 in June [27,] 2003, which was made mandatory by CAA UK AD 007-06-2003. The ISB was subsequently re-issued at Revision 1 during 2004 [May 18, 2004] to clarify the inspection requirements and provide an improved inspection procedure. CAA UK AD G-2005-0002 [which corresponds to FAA AD 2005-13-19] (EASA approval number 2005-313) was issued to require accomplishment of the improved inspections.

During 2008, a further report was received at BAE Systems of a 13.78 inch crack in an AVRO 146-RJ that occurred 514 flight cycles (FC) short of the next 4 000-FC repetitive inspection interval. A reassessment of ISB instructions and its supporting data concluded that these original inspection periods were too long, and the method for defining the areas requiring inspection could be open to misinterpretation. In response, BAE Systems has updated the ISB to Revision 2 [dated December 12, 2008] to reduce the inspection intervals, introducing different inspection intervals associated with specific areas of the forward fuselage skins and instructions to inspect additional areas of the forward fuselage skin.

For the reasons described above, this AD retains the requirements of CAA UK AD G-2005-0002, which is superseded, and requires the implementation of revised repetitive inspections, including inspection of additional areas of the forward fuselage skin panels for cracking and follow-on repair action(s), depending on findings.

This AD is [further] revised to acknowledge the issuance of BAE Systems (Operations) Limited ISB.53-167 Revision 3, [dated June 17, 2009] which allows the repetitive inspection intervals to be extended and introduces grace periods to carry out the initial inspections. In addition, this AD at Revision 1 [EASA AD 2009-0070R1, dated July 2, 2010] acknowledges the issuance of BAE Systems ISB.53-167 Revision 4 [dated June 10, 2010] which corrects the grace period for the initial inspections on BAe 146 aeroplane types.

You may obtain further information by examining the MCAI in the AD docket.

Relevant Service Information

BAE SYSTEMS (OPERATIONS) LIMITED has issued Inspection Service Bulletin ISB.53-167, Revision 4, dated June 10, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry.

The actions that are required by AD 2005-13-19 and retained in this proposed AD take about 40 work-hours per product, at an average labor rate of $85 per work hour. Based on these figures, the estimated cost of the currently required actions is $3,400 per product.

We estimate that it would take about 32 work-hours per product to comply with the new basic requirements of this proposed AD. The average labor rate is $85 per work-hour. Based on these figures, we estimate the cost of the proposed AD on U.S. operators to be $2,720, or $2,720 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, part A, subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14156 (70 FR 37022, June 28, 2005) and adding the following new AD:

BAE SYSTEMS (OPERATIONS) LIMITED: Docket No. FAA-2010-1308; Directorate Identifier 2009-NM-069-AD.

Comments Due Date

(a) We must receive comments by February 28, 2011.

Affected ADs

(b) This AD supersedes AD 2005-13-19, Amendment 39-14156.

Applicability

(c) This AD applies to all BAE SYSTEMS (OPERATIONS) LIMITED Model BAe 146-100A, -200A, and -300A airplanes; and Model Avro 146-RJ70A, 146-RJ85A, and 146-RJ100A airplanes; certificated in any category.

Subject

(d) Air Transport Association (ATA) of America Code 53: Fuselage.

Reason

(e) The mandatory continuing airworthiness information (MCAI) states:

During the period 2001/2002, skin cracking was found adjacent to the butt joint forward of frame 19 * * *. The cracks emanated from chemically-etched pockets on the internal surface of the skin. * * * [C]racking in multiple adjacent bays * * * could compromise the structural integrity of the fuselage in the event that the multiple cracks joined into a single crack. * * *

During 2008, a further report was received at BAE Systems of a 13.78 inch crack in an AVRO 146-RJ that occurred 514 flight cycles (FC) short of the next 4 000-FC repetitive inspection interval. * * *

* * * * *

Compliance

(f) You are responsible for having the actions required by this AD performed within the compliance times specified, unless the actions have already been done.

RESTATEMENT OF REQUIREMENTS OF AD 2005-13-19:

Inspections and Repair

(g) Within the applicable compliance time specified in paragraph (g)(1) or (g)(2) of this AD, perform an external eddy current inspection of the forward fuselage skin to detect cracking, in accordance with the Accomplishment Instructions of BAE Systems (Operations) Limited Modification Service Bulletin ISB.53-167, including Appendix 2, Revision 1, dated May 18, 2004. Doing the inspection required by paragraph (j) of this AD terminates the requirements of this paragraph of this AD.

(1) For Model BAe 146 series airplanes: Inspect before the accumulation of 16,000 total landings, or within 4,000 landings after the August 2, 2005 (the effective date of AD 2005-13-19), whichever is later.

(i) For areas where no crack is found, repeat the inspection at intervals not to exceed 8,000 landings.

(ii) For areas where any crack is found, before further flight, perform repairs in accordance with a method approved by the Manager, International Branch, ANM-116, Transport Airplane Directorate, FAA, the Civil Aviation Authority (CAA) (or its delegated agent), or EASA (or its delegated agent). No further inspection of any repaired area is required by paragraph (g) of this AD.

(2) For Model Avro 146-RJ series airplanes: Inspect before the accumulation of 10,000 total landings, or within 2,000 landings after August 2, 2005, whichever is later.

(i) For areas where no crack is found, repeat the inspection at intervals not to exceed 4,000 landings.

(ii) For areas where any crack is found, before further flight, perform repairs in accordance with a method approved by the Manager, International Branch, ANM-116, the CAA (or its delegated agent), or EASA (or its delegated agent). No further inspection of any repaired area is required by paragraph (g) of this AD.

Inspections Accomplished According to Previous Issue of Service Bulletin

(h) Inspections accomplished before August 2, 2005, in accordance with BAE Systems (Operations) Limited Inspection Service Bulletin ISB.53-167, including Appendices 2 and 3, all dated June 27, 2003, are considered acceptable for compliance with the corresponding action specified in paragraph (g) of this AD.

No Reporting Requirement for AD 2005-13-19

(i) Although BAE Systems (Operations) Limited Modification Service Bulletin ISB.53-167, including Appendix 2, Revision 1, dated May 18, 2004, specifies to submit Appendix 1 of that service bulletin with certain information to the manufacturer, this AD does not include that requirement.

New Requirements of this AD:

Inspection and Repair—Expanded Area of Forward Fuselage Skin and Reduced Inspection Intervals

(j) For Model BAe 146 airplanes: At the later of the times specified in paragraphs (j)(1), (j)(2), and (j)(3) of this AD, do an external eddy current inspection of the forward fuselage skin to detect cracking, in accordance with the Accomplishment Instructions of BAE Systems (Operations) Limited Inspection Service Bulletin ISB.53-167, including Appendix 2, Revision 4, dated June 10, 2010. Repeat the inspection thereafter at intervals not to exceed 3,600 flight cycles for areas specified in Drawings 2, 3, 4, 5, and 7 of BAE Systems (Operations) Limited Inspection Service Bulletin ISB.53-167, including Appendix 2, Revision 4, dated June 10, 2010, and at intervals not to exceed 4,600 flight cycles for areas specified in Drawings 1, 6, 8, and 9 of BAE Systems (Operations) Limited Inspection Service Bulletin ISB.53-167, including Appendix 2, Revision 4, dated June 10, 2010. Doing the inspection required by this paragraph terminates the requirements of paragraph (g) of this AD for that airplane.

(1) Before the accumulation of 16,000 total flight cycles.

(2) Within 2,000 flight cycles after the effective date of this AD.

(3) Within the applicable times specified in paragraphs (j)(3)(i) and (j)(3)(ii) of this AD.

(i) For areas specified in Drawings 2, 3, 4, 5, and 7 of BAE Systems (Operations) Limited Inspection Service Bulletin ISB.53-167, including Appendix 2, Revision 4, dated June 10, 2010: Within 3,600 flight cycles after the last inspection done in accordance with paragraph (g) of this AD.

(ii) For areas specified in Drawings 1, 6, 8, and 9 of BAE Systems (Operations) Limited Inspection Service Bulletin ISB.53-167, including Appendix 2, Revision 4, dated June 10, 2010: Within 4,600 flight cycles after the last inspection done in accordance with paragraph (g) of this AD.

(k) For Model Avro 146-RJ airplanes: At the later of the times specified in paragraph (k)(1), (k)(2), and (k)(3) of this AD, do an external eddy current inspection of the forward fuselage skin to detect cracking, in accordance with the Accomplishment Instructions of BAE Systems (Operations) Limited Inspection Service Bulletin ISB.53-167, including Appendix 2, Revision 4, dated June 10, 2010. Repeat the inspection thereafter at intervals not to exceed 2,400 flight cycles for areas specified in Drawings 2, 3, 4, 5, and 7 of BAE Systems (Operations) Limited Inspection Service Bulletin ISB.53-167, including Appendix 2, Revision 4, dated June 10, 2010, and 3,000 flight cycles for areas specified in Drawings 1, 6, 8, and 9 of BAE Systems (Operations) Limited Inspection Service Bulletin ISB.53-167, including Appendix 2, Revision 4, dated June 10, 2010. Doing the inspection required by this paragraph terminates the requirements of paragraph (g) of this AD for that airplane.

(1) Before the accumulation of 10,000 total flight cycles.

(2) Within 1,000 flight cycles after the effective date of this AD.

(3) Within the applicable times specified in paragraphs (k)(3)(i) and (k)(3)(ii) of this AD.

(i) For areas specified in Drawings 2, 3, 4, 5, and 7 of BAE Systems (Operations) Limited Inspection Service Bulletin ISB.53-167, including Appendix 2, Revision 4, dated June 10, 2010: Within 3,600 flight cycles after the last inspection done in accordance with paragraph (g) of this AD.

(ii) For areas specified in Drawings 1, 6, 8, and 9 of BAE Systems (Operations) Limited Inspection Service Bulletin ISB.53-167, including Appendix 2, Revision 4, dated June 10, 2010: Within 4,600 flight cycles after the last inspection done in accordance with paragraph (g) of this AD.

(l) If any cracking is found during any inspection required by paragraph (j) or (k) of this AD, before further flight, accomplish the repair in accordance with a method approved by the FAA or EASA (or its delegated agent). Repair of an airplane in accordance with the requirements of this paragraph of this AD does not constitute terminating action for the inspection requirements of this AD.

Credit for Actions Accomplished in Accordance With Previous Service Information

(m) Inspections done before the effective date of this AD in accordance with BAE Systems (Operations) Limited Inspection Service Bulletin ISB.53-167, including Appendix 2, Revision 2, dated November 17, 2008; or Revision 3, dated June 17, 2009; are acceptable for compliance with the corresponding requirements of paragraphs (j) and (k) of this AD.

FAA AD Differences

Note 1: This AD differs from the MCAI and/or service information as follows: No differences.

Other FAA AD Provisions

(n) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(o) Refer to MCAI EASA Airworthiness Directive 2009-0070R1, dated July 2, 2010; and BAE Systems (Operations) Limited Modification Service Bulletin ISB.53-167, including Appendix 2, Revision 1, dated May 18, 2004; and BAE Systems (Operations) Limited Inspection Service Bulletin ISB.53-167, including Appendix 2, Revision 4, dated June 10, 2010; for related information.

Issued in Renton, Washington, on January 5, 2011.
Ali Bahrami,
Manager, Transport Airplane Directorate, Aircraft Certification Service.

[FR Doc. 2011-585 Filed 1-12-11; 8:45 am]

BILLING CODE 4910-13-P